DEPARTMENT OF AGRICULTURE

Submission for OMB Review; Comment Request

March 12, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Cold Storage.

OMB Control Number: 0535-0001.

Summary of Collection: The primary objective of the National Agricultural Statistics Service (NASS) is to prepare and issue State and national estimates of crop and livestock production. The monthly Cold Storage Survey provides information on national supplies of food in refrigerated storage facilities. A biennial survey of refrigerated warehouses is also conducted to provide a benchmark of the capacity available for refrigerated storage of the nation's food supply. The data will be collected under the authority of 7 U.S.C. 2204(a). This statute specifies “The Secretary of Agriculture shall procure and preserve all information concerning agriculture which he can obtain * * * by the collection of statistics * * * and shall distribute them among agriculturists.”

Need and Use of the Information: USDA agencies such as the World Agricultural Outlook Board, Economic Research Service, and Agricultural Marketing Service use information from the Cold Storage report in setting and administering government commodity programs and in supply and demand analysis. Included in the report are stocks of pork bellies, frozen orange juice concentrate, butter, and cheese which are traded on the Chicago Board of Trade. The timing and frequency of the surveys have evolved to meet the needs of producers, facilities, agribusinesses, and government agencies.

Description of Respondents: Business or other for-profit.

Number of Respondents: 4,320.

Frequency of Responses: Reporting: Monthly; biennially.

Total Burden Hours: 6,047.

National Agricultural Statistics Service

Title: Supplemental Qualifications Statement.

OMB Control Number: 0535-0209.

Summary of Collection: The Department of Agriculture has an Interagency Agreement (DOA-1) with the Office of Personnel Management which provides the National Agricultural Statistics Service (NASS) with the authority to examine, rate, and certify applications for agricultural statistician positions. In addition to resumes, curriculum vitae, and the standard Optional Application for Federal Employment, NASS has created a Supplemental Qualifications Statement (SQS) for agricultural statistician and mathematical statistician positions. The SQS allows applicants the opportunity to describe their achievements or accomplishments as they relate to the required knowledge, skills, and abilities.

Need and Use of the Information: The SQS provides applicants with information related to how they will be measured for a position and what kinds of information will be used to evaluate those abilities. NASS personnel specialist will use the information on the SQS to evaluate and rate the applicant's accomplishments or achievements. Ultimately, the information is used by the selecting official as one of the criteria in the selection process.

Description of Respondents: Individuals or households.

Number of Respondents: 50.

Frequency of Responses: Reporting: On occasion.

Total Burden Hours: 150.

Charlene Parker,
Departmental Information Collection Clearance Officer.

[FR Doc. E7-4800 Filed 3-15-07; 8:45 am]

BILLING CODE 3410-20-P